ENVIRONMENTAL PROTECTION AGENCY

[FRL-7781-1]

Neurotoxicity of Tetrachloroethylene (Perchloroethylene): Workshop Report

AGENCY: Environmental Protection Agency (EPA).

ACTION: Notice of availability.

SUMMARY: This notice announces the availability of a final report titled, Summary Report of the Peer Review Workshop on the Neurotoxicity of Tetrachloroethylene (Perchloroethylene) Discussion Paper (EPA/600/R-04/041), which is being published by the U.S. Environmental Protection Agency's, National Center for Environmental Assessment (NCEA) within the Office of Research and Development (ORD).

ADDRESSES: The document will be made available electronically through the NCEA Web site (www.epa.gov/ncea).

FOR FURTHER INFORMATION CONTACT: The Technical Information Staff, National Center for Environmental Assessment (8623D), U.S. Environmental Protection Agency, 1200 Pennsylvania Avenue, NW., Washington, DC 20460. Telephone: (202) 564-3261; fax: (202) 565-0050.

SUPPLEMENTARY INFORMATION: EPA is developing a human health effects toxicological review document on tetrachloroethylene. As part of the document development process, EPA brought together recognized scientific experts to engage in a public discussion on the neurological effects of inhalation of tetrachloroethylene, as well as a review of studies that focus on these effects. The workshop was held February 25, 2004, and was organized and convened by Versar, Inc. under contract to EPA. Expert information gathered at the workshop will help in EPA's development of the draft assessment of tetrachloroethylene health effects.

The Summary Report of the Peer Review Workshop on the Neurotoxicity of Tetrachloroethylene (Perchloroethylene) Discussion Paper, prepared by Versar, Inc., summarizes the discussions at the February 25, 2004, workshop. The expert consultants based their discussion on an October 2003 External Review Draft EPA paper entitled, Neurotoxicity of Tetrachloroethylene (Perchloroethylene) Discussion Paper (EPA/600/P-03/005A), which was provided both to the expert consultants and to the public prior to the workshop meeting. At the workshop, the external experts provided EPA with their individual opinions on science issues related to the neurotoxicological effects of tetrachloroethylene.

Dated: June 25, 2004.
George W. Alapas,
Director, National Center for Environmental Assessment.

[FR Doc. 04-14994 Filed 6-30-04; 8:45 am]

BILLING CODE 6560-50-P